DEPARTMENT OF ENERGY

Federal Energy Regulatory Commission

[Docket No. RP01-173-001]

Questar Pipeline Company; Notice of Compliance Filing

February 1, 2001.

Take notice that on January 30, 2001, Questar Pipeline Company (Questar) tendered for filing as part of its FERC Gas Tariff, First Revised Volume No. 1, the following tariff sheets to be effective December 22, 2000:

Substitute Fifth Revised Sheet No. 52

Substitute Fourth Revised Sheet No. 56

Substitute First Revised Sheet No. 56A

Questar stated that the purpose of this filing is to comply with the Commission's January 4 order, wherein the Commission approved and rejected certain tariff sheets and requested clarification of approved Fourth Revised Sheet No. 56 and First Revised Sheet No. 56A. Therefore, these sheets have been modified to include proposed language in order to clarify its intent.

Questar states that in addition, Substitute Fifth Revised Sheet No. 52 is being submitted to be consistent with what Questar believes the Commission intended to approve in its January 4 order. The tariff sheet is now consistent with what the Commission approved on Sheet No. 52A, which allows for a bid period with two rounds of competing bids instead of three.

Questar states that a copy of this filing has been served upon its customers, the Public Service Commission of Utah and the Public Service Commission of Wyoming.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instruction on the Commission's web site at http://www.ferc.fed.us/efi/doorbell.htm.

David P. Boergers,
Secretary.

[FR Doc. 01-3149 Filed 2-6-01; 8:45 am]

BILLING CODE 6717-01-M